POSTAL SERVICE

39 CFR Part 20

International Mailing Services: Mailing Services Product and Price Changes

AGENCY: Postal Service™.

ACTION: Final action.

SUMMARY: On October 15, 2020, the Postal Service published proposed product and price changes to reflect a notice of price adjustments filed with the Postal Regulatory Commission (PRC). The PRC found that price adjustments contained in the Postal Service's notification may go into effect on January 24, 2021. The Postal Service will revise Notice 123, Price List to reflect the new prices.

DATES: The revisions to Notice 123, Price List, are effective January 24, 2021.

FOR FURTHER INFORMATION CONTACT: Kathy Frigo at 202-268-4178.

SUPPLEMENTARY INFORMATION:

I. Proposed Rule and Response

On October 9, 2020, the Postal Service filed a notice with the PRC in Docket Number R2021-1 of mailing services price adjustments to be effective on January 24, 2021. On October 15, 2020, USPS® published a notification of proposed product and price changes in the Federal Register entitled “International Mailing Services: Proposed Product and Price Changes—CPI” (85 FR 65310). The notification included price changes that the Postal Service would adopt for products and services covered by Mailing Standards of the United States Postal Service, International Mail Manual (IMM®) and publish in Notice 123, Price List, on Postal Explorer® at pe.usps.com. The Postal Service received no comments.

II. Decision of the Postal Regulatory Commission

As stated in the PRC's Order No. 5757, issued on November 18, 2020, in PRC Docket No. R2021-1, the PRC found that the prices in the Postal Service's notification may go into effect on January 24, 2021. The new prices will accordingly be posted in Notice 123, Price List on Postal Explorer at pe.usps.com.

Joshua J. Hofer,
Attorney, Federal Compliance.

[FR Doc. 2020-27021 Filed 12-21-20; 8:45 am]

BILLING CODE 7710-12-P